DEPARTMENT OF COMMERCE

International Trade Administration

(A-533-847, A-570-934)

1-Hydroxyethylidene-1, 1-Diphosphonic Acid from the Republic of India and the People's Republic of China: Postponement of Preliminary Determinations of Antidumping Duty Investigations

AGENCY: Import Administration, International Trade Administration, Department of Commerce.

EFFECTIVE DATE: August 22, 2008.

FOR FURTHER INFORMATION CONTACT: Brian C. Smith (India) or Maisha Cryor (People's Republic of China), AD/CVD Operations, Offices 2 and 4, Import Administration, International Trade Administration, U.S. Department of Commerce, 14th Street and Constitution Avenue, NW, Washington, DC 20230; telephone: (202) 482-1766 or (202) 482-5831, respectively.

SUPPLEMENTARY INFORMATION:

Postponement of Preliminary Determinations

On April 8, 2008, the Department of Commerce (the Department) initiated the antidumping investigations on 1-Hydroxyethylidene-1, 1-Diphosphonic Acid from the Republic of India and the People's Republic of China. See 1-Hydroxyethylidene-1, 1-Diphosphonic Acid from the Republic of India and the People's Republic of China: Initiation of Antidumping Duty Investigations, 73 FR 20023 (April 14, 2008). The notice of initiation stated that the Department would issue the preliminary determinations for these investigations no later than 140 days after the date of issuance of the initiation, in accordance with section 773(b)(1)(A) of the Tariff Act of 1930, as amended (the Act).

On July 30, 2008, the petitioner, Compass Chemical International LLC, made a request pursuant to 19 CFR 351.205(b)(2) and (e) for a 50-day postponement of the preliminary determinations. The petitioner requested postponement of the preliminary determinations in order to allow more time to analyze and comment on the respondents' questionnaire responses.

For the reasons identified by the petitioner and because there are no compelling reasons to deny the request, the Department is postponing the deadline for the preliminary determinations under section 773(c)(1)(A) of the Act by 50 days from the current deadline of August 26, 2008, to October 15, 2008. The deadline for the final determinations will continue to be 75 days after the date of the preliminary determinations, unless extended.

This notice is issued and published pursuant to sections 733(c)(2) of the Act and 19 CFR 351.205 (f)(1).

Dated: August 14, 2008.
David M. Spooner,
Assistant Secretary for Import Administration.

[FR Doc. E8-19555 Filed 8-21-08; 8:45 am]

BILLING CODE 3510-DS-S